GENERAL SERVICES ADMINISTRATION

Privacy Act of 1974; New System of Records

AGENCY: General Services Administration (GSA).

ACTION: Notice of a new system of records.

SUMMARY: This system of records clarifies GSA's procedures and authority to collect information related to reasonable accommodations. It does not create new authority to collect such information.

DATES: This system of records will go into effect without further notice on December 13, 2021 unless otherwise revised pursuant to comments received.

ADDRESSES: You may submit comments by any of the following methods:

• By email to the GSA Privacy Act Officer: gsa.privacyact@gsa.gov.

• By mail to: Privacy Office (IDE), General Services Administration, 1800 F Street NW, Washington, DC 20405.

FOR FURTHER INFORMATION CONTACT: Call or email Richard Speidel, Privacy Act Officer, at 202-322-8246, or gsa.privacyact@gsa.gov.

Qamar Hasan,
Acting Chief Privacy Officer, Office of the Deputy Chief Information Officer, General Services Administration.

SYSTEM NAME AND NUMBER:

Reasonable Accommodation Records—GSA/HRO-1.

SECURITY CLASSIFICATION:

Unclassified.

SYSTEM LOCATION:

This system is maintained by the Chief Human Capital Officer at GSA's Central Office at 1800 F Street NW, Washington, DC 20405. Records may also be located at the offices of supervisors assigned to GSA or supervisors assigned to other agencies that receive human resources services from GSA.

SYSTEM MANAGER(S) AND ADDRESS:

Office of Human Resources Management, GSA 1800 F Street NW, Washington, DC 20405.

AUTHORITY FOR MAINTENANCE OF THE SYSTEM:

The Rehabilitation Act of 1973, 29 U.S.C. 791; The Americans with Disabilities Act of 1990, 42 U.S.C. 12101; Title VII of the Civil Rights Act, 42 U.S.C. 2000e-16; the Family and Medical Leave Act of 1993, 29 U.S.C. 2601; 40 U.S.C. 3173; E.O. 13164 (July 28, 2000); E.O. 13548 (July 26, 2010); E.O. 14042 (September 9, 2021); and E.O. 14043 (September 9, 2021).

PURPOSE(S) OF THE SYSTEM:

This system is maintained for the purpose of considering, deciding, and implementing requests for reasonable accommodation or exemption from vaccine or other requirements made by GSA employees and applicants. Records may be shared with non-GSA personnel, pursuant to a contract or similar support agreement, when necessary to adjudicate the request.

CATEGORIES OF INDIVIDUALS COVERED BY THE SYSTEM:

Current and former GSA employees and applicants, or employees and applicants of other Federal entities that receive administrative support from GSA pursuant to an interagency agreement, who have requested reasonable accommodations under the Rehabilitation Act of 1973, the Americans with Disabilities Act of 1990, Title VII of the Civil Rights Act, E.O. 14043, or other applicable authority.

CATEGORIES OF RECORDS IN THE SYSTEM:

• First, middle, and last name of the person who requires the accommodation;

• Address, phone number, and email address of the person who requires the accommodation;

• Date of the request;

• Event for which the request was made;

• Program or activity for which the request was made;

• Job (occupational series, grade level, and office) for which reasonable accommodation was requested;

• Information concerning the nature of the disability or the need for accommodation, including appropriate medical or other documentation when necessary to consider the request;

• Information about the requestor's religious beliefs, provided by the requestor in support of a request for accommodation or exemption from a requirement or penalty;

• Type of accommodation requested or received;

• Information concerning the agency's review of reasonable accommodation requests, to include information requested or received that forms the basis of an approval or denial, and any information obtained during the appeals process;

• Expense information associated with the requested accommodation;

• Whether an accommodation requested or provided occurred during pre-employment, during current employment, or former employment or for a particular event;

• How the requested accommodation would assist in job performance, participation in a GSA program or activity, or attendance at a GSA-sponsored meeting or event;

• The amount of time taken to process the request.

• Whether the request was granted or denied and the reason; and

• The sources of technical assistance consulted in trying to identify a possible reasonable accommodation.

RECORD SOURCE CATEGORIES:

Information is obtained from employees who requested or received reasonable accommodations from GSA or another agency that receives support services from GSA.

ROUTINE USES OF RECORDS MAINTAINED IN THE SYSTEM INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside GSA as a routine use pursuant to 5 U.S.C. 552a(b)(3) as follows:

a. To medical personnel to meet a bona fide medical emergency.

b. To another Federal agency to which GSA provides human resources services when the records are relevant and necessary to help determine whether the employee is entitled to an accommodation.

c. To a Member of Congress or his or her staff on behalf of and at the request of the individual who is the subject of the record.

d. To an authorized appeal, grievance, hearing, or complaints examiner; an equal employment opportunity investigator, arbitrator, or mediator; and an exclusive representative or other person authorized to investigate or settle a grievance, complaint, or appeal filed by an individual who is the subject of the record.

e. To appropriate agencies, entities, and persons when (1) GSA suspects or has confirmed that there has been a breach of the system of records, (2) GSA has determined that as a result of the suspected or confirmed breach there is a risk of harm to individuals, GSA (including its information systems, programs, and operations), the Federal Government, or national security; and (3) the disclosure made to such agencies, entities, and persons is reasonably necessary to assist in connection with GSA's efforts to respond to the suspected or confirmed breach or to prevent, minimize, or remedy such harm.

f. To another Federal agency or Federal entity, when GSA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

g. To the Office of Personnel Management (OPM), the Office of Management and Budget (OMB), the Government Accountability Office (GAO), and the Equal Employment Opportunity Commission (EEOC) in accordance with their responsibilities for evaluating Federal programs.

h. To the National Archives and Records Administration (NARA) for records management purposes.

i. To an expert, consultant, or contractor of GSA engaged in a duty related to an agency function to the extent necessary to perform the function.

j. To the Department of Justice or other Federal agency conducting litigation or in proceedings before any court, adjudicative or administrative body, when: (a) GSA or any component thereof, or (b) any employee of GSA in his/her official capacity, or (c) any employee of GSA in his/her individual capacity where DOJ or GSA has agreed to represent the employee, or (d) the United States or any agency thereof, is a party to the litigation or has an interest in such litigation, and GSA determines that the records are both relevant and necessary to the litigation.

k. In connection with any litigation or settlement discussions regarding claims by or against the GSA, including public filing with a court, to the extent that GSA determines the disclosure of the information is relevant and necessary to the litigation or discussions.

POLICIES AND PRACTICES FOR STORAGE OF RECORDS:

Records in this system of records are stored electronically or on paper in secure facilities. Electronic records are stored on GSA's secure network.

POLICIES AND PRACTICES FOR RETRIEVAL OF RECORDS:

Information covered by this system of records notice may be retrieved by the name of the individual employee.

POLICIES AND PRACTICES FOR RETENTION AND DISPOSAL OF RECORDS:

System records are retained and disposed of according to GSA records maintenance and disposition schedules and the requirements of the National Archives and Records Administration (General Records Schedule 2.3, item 20).

ADMINISTRATIVE, TECHNICAL, AND PHYSICAL SAFEGUARDS:

Access is limited to authorized individuals with passwords or keys. Computer records are protected by a password system that is compliant with National Institute of Standards and Technology standards. Paper records are stored in locked metal containers or in secured rooms when not in use. Information is released to authorized officials based on their need to know.

RECORD ACCESS PROCEDURES:

Individuals wishing to access their own records should contact the system manager at the address above. See 17 CFR 146.3 for full details on what to include in a Privacy Act access request.

CONTESTING RECORD PROCEDURES:

Individuals wishing to contest the content of records about themselves contained in this system of records should contact the system manager at the address above. See 17 CFR 146.8 for full details on what to include in a Privacy Act amendment request.

NOTIFICATION PROCEDURES:

Individuals seeking notification of any records about themselves contained in this system of records should contact the system manager at the address above. See 17 CFR 146.3 for full details on what to include in a Privacy Act notification request.

EXEMPTION PROMULGATED FOR THE SYSTEM:

None.

HISTORY:

N/A.

[FR Doc. 2021-24685 Filed 11-10-21; 8:45 am]

BILLING CODE 6820-14-P